DEPARTMENT OF HEALTH AND HUMAN SERVICES

Centers for Disease Control and Prevention

[60Day-20-20NE; Docket No. CDC-2020-0045]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Infant Feeding Practices Study III to understand the current state of mothers' intentions, behaviors, feeding decisions, and practices from pregnancy through their child's first two years of life and how these change.

DATES: CDC must receive written comments on or before July 14, 2020.

ADDRESSES: You may submit comments, identified by Docket No. CDC-2020-0045 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Infant Feeding Practices Study III-New-National Center for Chronic Disease Prevention and Health Promotion (NCCDPHP), Centers for Disease Control and Prevention (CDC).

Background and Brief Description

Infant Feeding Practices Study (IFPS) III is a longitudinal study that will follow pregnant women and their new baby for two years. Data will be collected using web-based surveys at multiple time points over two years. This includes (1) a prenatal survey, (2) 14 follow up surveys after the baby is born, and (3) 2-4 maternal dietary data recalls. The data from IFPS III will be used to: Fill research gaps on how feeding behaviors, patterns, and practices change over the first two years of life and the health-related impacts; inform multiple federal agency efforts targeting maternal and infant and toddler nutrition through work in hospitals, with health care providers, with early care and education providers, and outreach to families and caregivers; and provide context to policy level documents such as the U.S. Dietary Guidelines for Americans, which will include pregnant women and children birth to 24 months of age for the first time in 2020-2025. CDC requests approval of 5,051 annualized burden hours for this collection. There is no cost to respondents other than their time.

Estimated Annualized Burden Hours
Respondents | Form name | Number of respondents | Number of responses per respondent | Average burden per response (in hours) | Total annualized burden hours
Pregnant/Postpartum Women | Study Screener | 7,477 | 1 | 3/60 | 125
| Study Consent | 4,711 | 1 | 5/60 | 131
| Prenatal Survey | 4,239 | 1 | 20/60 | 471
| 24-Hour Dietary Recall—Prenatal | 2,756 | 1 | 24/60 | 367
| Replicate 24-Hour Dietary Recall—Prenatal | 269 | 1 | 24/60 | 36
| Request for notification of child's birth | 4,239 | 1 | 2/60 | 47
| Birth Screener | 4,103 | 1 | 2/60 | 46
| 1-Month Survey | 3,693 | 1 | 20/60 | 410
| 2-Month Survey | 3,575 | 1 | 15/60 | 298
| 3-Month Survey | 3,460 | 1 | 15/60 | 288
| 24-Hour Dietary Recall—Month 3 | 2,249 | 1 | 24/60 | 300
| Replicate 24-Hour Dietary Recall—Month 3 | 219 | 1 | 24/60 | 29
| 4-Month Survey | 3,350 | 1 | 15/60 | 279
| 5-Month Survey | 3,243 | 1 | 15/60 | 270
| 6-Month Survey | 3,139 | 1 | 15/60 | 262
| 8-Month Survey | 3,038 | 1 | 15/60 | 253
| 10-Month Survey | 2,941 | 1 | 20/60 | 327
| 12-Month Survey | 2,847 | 1 | 15/60 | 237
| 15-Month Survey | 2,756 | 1 | 15/60 | 230
| 18-Month Survey | 2,668 | 1 | 15/60 | 222
| 21-Month Survey | 2,582 | 1 | 15/60 | 215
| 24-Month Survey | 2,500 | 1 | 15/60 | 208
Total |  |  |  |  | 5,051

Jeffrey M. Zirger,
Lead, Information Collection Review Office, Office of Scientific Integrity, Office of Science, Centers for Disease Control and Prevention.

[FR Doc. 2020-10412 Filed 5-14-20; 8:45 am]

BILLING CODE 4163-18-P